DEPARTMENT OF HEALTH AND HUMAN SERVICES

Food and Drug Administration

FDA 225-05-6001

Memorandum of Understanding Between the Food and Drug Administration, Duke University and Duke University Health System, Inc.

AGENCY: Food and Drug Administration, HHS.

ACTION: Notice.

SUMMARY: The Food and Drug Administration (FDA) is providing notice of a memorandum of understanding (MOU) between FDA, Duke University (DU) and Duke University Health System, Inc. (DUHS). The purpose of the MOU is to establish the terms of collaboration between FDA, DU and DUHS to support shared interests and will begin with an initiative entitled: The FDA, DU and DUMC Elective Program.

DATES: The agreement became effective September 18, 2006.

FOR FURTHER INFORMATION CONTACT: Nancy L. Pluhowski, Center for Devices and Radiological Health (HFZ-1), Food and Drug Administration, 9200 Corporate Blvd., Rockville, MD 20850, 301-827-2890.

SUPPLEMENTARY INFORMATION: In accordance with 21 CFR 20.108(c), which states that all written agreements and MOUs between FDA and others shall be published in the Federal Register, the agency is publishing notice of this MOU.

Dated: January 25, 2007.
Jeffrey Shuren,
Assistant Commissioner for Policy.

BILLING CODE 4160-01-S

[FR Doc. 07-454 Filed 2-1-07; 8:45 am]

BILLING CODE 4160-01-C